FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 2, 2005.

A. Federal Reserve Bank of Minneapolis (Jacqueline G. King, Community Affairs Officer) 90 Hennepin Avenue, Minneapolis, Minnesota 55480-0291:

1. Shirley A. Davidson; the Shirley A. Davidson Marital Trust, Shirley A. Davidson trustee; Tamara M. Davidson-Sogard; the Tamara M. Davidson-Sogard Family Generation Skipping Trust, Tamara M. Davidson-Sogard trustee; Patrick Oliver Sogard; Barrett W. Sogard; the Barrett W. Sogard Trust; Isabella M. Sogard; the Isabella M. Sogard Trust; Oliver T. Sogard; the Oliver T. Sogard Trust; Thomas P. Sogard; and the Thomas P. Sogard Trust, all of Williston, North Dakota and Thomas M. Davidson, Jr. and the Thomas M. Davidson Jr. Family Generation Skipping Trust, Thomas M. Davidson Jr. trustee, Minneapolis, Minnesota, a group acting in concert; to acquire voting shares of American State Bank Holding Company, Inc., Williston, North Dakota, and thereby indirectly acquire voting shares of American State Bank & Trust Company of Williston, Williston, North Dakota. In addition, Shirley A. Davidson, Tamara M. Davidson-Sogard, and Patrick O. Sogard to individually acquire voting shares of American State Bank Holding Company, Inc., Williston, North Dakota, and thereby indirectly acquire voting shares of American State Bank & Trust Company of Williston, Williston, North Dakota.

Board of Governors of the Federal Reserve System, November 14, 2005.
Robert deV. Frierson,
Deputy Secretary of the Board.

[FR Doc. E5-6369 Filed 11-17-05; 8:45 am]

BILLING CODE 6210-01-S